DEPARTMENT OF HOMELAND SECURITY

Office of the Secretary

[DHS-2006-0060]

Privacy Act of 1974; System of Records

AGENCY: Privacy Office; Department of Homeland Security.

ACTION: Privacy Act System of Records Notice; extension of comment period.

SUMMARY: This document provides additional time for interested persons to submit comments on the system of records notice for the Department of Homeland Security, U.S. Customs and Border Protection Automated Targeting System.

DATES: Comments on the Privacy Act System of Records Notice must be received on or before December 29, 2006.

ADDRESSES: You may submit comments, identified by docket number, by one of the following methods:

• Federal eRulemaking Portal: http://www.regulations.gov. Follow the instructions for submitting comments via docket number DHS 2006-0060.

• Fax: 202-572-8727.

• Mail: Comments by mail may also be submitted to Hugo Teufel III, Chief Privacy Officer, Department of Homeland Security, Washington, DC 20528.

• Instructions: All submissions received must include the agency name and docket number for this rulemaking. All comments received will be posted without change to http://www.regulations.gov, including any personal information provided.

• Docket: For access to the docket to read background documents or comments received go to http://www.regulations.gov.

FOR FURTHER INFORMATION CONTACT: For general questions please contact: Laurence E. Castelli (202-572-8790), Chief, Privacy Act Policy and Procedures Branch, Bureau of Customs and Border Protection, Office of Regulations & Rulings, Mint Annex, 1300 Pennsylvania Ave., NW., Washington, DC 20229. For privacy issues please contact: Hugo Teufel III (571-227-3813), Chief Privacy Officer, Privacy Office, U.S. Department of Homeland Security, Washington, DC 20528.

SUPPLEMENTARY INFORMATION:

Background

To provide expanded notice and transparency to the public, the Department of Homeland Security (DHS), U.S. Customs and Border Protection (CBP) published a Privacy Act system of records notice (SORN) in the Federal Register regarding the Automated Targeting System (ATS) on November 2, 2006 (71 Fed. Reg. 64543). As detailed in the SORN, ATS is the enforcement screening module associated with the Treasury Enforcement Communications System and was previously covered by the Treasury Enforcement Communications System “System of Records Notice.” This system of records is subject to the Privacy Act of 1974, as amended (5 U.S.C. 552a).

The DHS Privacy Office published the Privacy Impact Assessment (PIA) for ATS on November 24, 2006 on its Web site, www.dhs.gov/privacy under “Privacy Impact Assessments.” The PIA provides additional background information and context for the SORN, including specific information on measures taken by DHS to protect the privacy of persons whose information might be found in ATS.

The SORN referenced above did not identify or create any new collection of information; rather DHS merely provided additional notice and transparency of the functionality of these pre-existing systems. The SORN provided for a thirty day comment period which expired on December 4, 2006.

Extension of Comment Period

In response to the SORN published in the Federal Register, and the PIA published on the web, DHS has received a number of comments from the public requesting an extension of the comment period. DHS has decided to grant the request for the extension. Accordingly, the period of time for the submission of comments is being extended. Comments are now due on or before December 29, 2006.

Dated: December 4, 2006.
Hugo Teufel III,
Chief Privacy Officer.

[FR Doc. 06-9595 Filed 12-5-06; 11:07 am]

BILLING CODE 4410-10-P